DEPARTMENT OF COMMERCE

International Trade Administration

A-588-867

Notice of Postponement of Preliminary Determination in the Antidumping Duty Investigation of Metal Calendar Slides from Japan

AGENCY: Import Administration, International Trade Administration, Department of Commerce.

SUMMARY: The Department of Commerce (“Department”) is postponing the preliminary determination in the antidumping duty investigation of metal calendar slides from the Japan from December 6, 2005, until no later than January 25, 2006. This postponement is made pursuant to section 733(c)(1)(A) of the Tariff Act of 1930, as amended (“the Act”).

EFFECTIVE DATE: November 21, 2005.

FOR FURTHER INFORMATION CONTACT: Scott Lindsay or Dara Iserson, Office of AD/CVD Enforcement 6, Import Administration, International Trade Administration, U.S. Department of Commerce, 14th Street and Constitution Avenue, N.W., Washington, DC 20230; telephone: (202) 482-0780 or (202) 482-4052, respectively.

SUPPLEMENTARY INFORMATION:

Postponement of Preliminary Determination

On July 19, 2005, the Department issued the initiation of the antidumping duty investigation of imports of metal calendar slides from Japan. See Initiation of Antidumping Duty Investigation: Metal Calendar Slides from Japan, (70 FR 43122 (July 26, 2005)). The notice of initiation stated that we would make our preliminary determination for this antidumping duty investigation no later than 140 days after the date of initiation.

On November 10, 2005, Stuebing Automatic Machine Company (“petitioner”) made a timely request pursuant to 19 CFR § 351.205(e) for a fifty-day postponement of the preliminary determination, on or until January 25, 2006. Petitioner requested postponement of the preliminary determination to allow the Department additional time in which to review the responses of the respondent, and to issue any necessary request(s) for clarification and additional information.

For the reasons identified by petitioner and because there are no compelling reasons to deny the request, we are postponing the preliminary determination pursuant to section 733(c)(1) of the Act. Therefore, the preliminary determination is now due no later than January 25, 2006. The deadline for the final determination will continue to be 75 days after the date of the preliminary determination, unless extended.

This notice is issued and published pursuant to sections 733(f) and 777(I) of the Act.

Dated: November 14, 2005.
Joseph A. Spetrini,
Acting Assistant Secretaryfor Import Administration.

[FR Doc. E5-6401 Filed 11-18-05; 8:45 am]

BILLING CODE 3510-DS-S